DEPARTMENT OF TRANSPORTATION

Federal Aviation Administration

14 CFR Part 39

[Docket No. FAA-2009-0568; Directorate Identifier 2009-NE-20-AD]

RIN 2120-AA64

Airworthiness Directives; Turbomeca Arriel 2S1 Turboshaft Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as: During acceleration up to One Engine Inoperative (OEI) 30-second rating, one event of flight loss of full automatic control occurred on an Arriel 2S1 engine. The selection of OEI 30-second rating on engine 1 was triggered by the automatic detection of an OEI situation further to a transient deceleration of engine 2. The transient deceleration of engine 2 was caused by the untimely reset of its DECU. Once this reset was completed, engine 2 resumed its nominal operation. Afterwards the aircraft then continued its flight safely with its engine 1 operating in manual control mode. The loss of full automatic control of engine 1 was caused by loss of steps of the stepper motor controlling the fuel metering valve inside the Hydromechanical Unit (HMU). It has been found that high accelerations, notably up to OEI 30-second rating, increase the risk of loss of steps of the HMU stepper motor. Therefore, this event has led to the consideration of the following unsafe condition at aircraft level: In-flight loss of full automatic control of the engine induced by the loss of steps of the stepper motor during acceleration up to OEI 30-second rating, further to an actual OEI situation on the other engine (such as a power loss event).

We are proposing this AD to prevent loss of full automatic control of the engine during acceleration up to the OEI 30-second rating. This condition could result in reduced controllability of the helicopter.

DATES: We must receive comments on this proposed AD by November 27, 2009.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

Contact Turbomeca, 40220 Tarnos, France; telephone (33) 05 59 74 40 00, fax (33) 05 59 74 45 15 for the service information identified in this AD.

SUPPLEMENTARY INFORMATION:

Comments Invited

We invite you to send any written relevant data, views, or arguments about this proposed AD. Send your comments to an address listed under the ADDRESSES section. Include “Docket No. FAA-2009-0568; Directorate Identifier 2009-NE-20-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2009-0010, dated January 20, 2009 (referred to after this as “the MCAI”), to correct an unsafe condition for the specified products. The MCAI states:

During acceleration up to One Engine Inoperative (OEI) 30-second rating, one event of flight loss of full automatic control occurred on an Arriel 2S1 engine.

The selection of OEI 30-second rating on engine 1 was triggered by the automatic detection of an OEI situation further to a transient deceleration of engine 2. The transient deceleration of engine 2 was caused by the untimely reset of its DECU. Once this reset was completed, engine 2 resumed its nominal operation. Afterwards the aircraft then continued its flight safely with its engine 1 operating in manual control mode.

The loss of full automatic control of engine 1 was caused by loss of steps of the stepper motor controlling the fuel metering valve inside the Hydromechanical Unit (HMU).

It has been found that high accelerations, notably up to OEI 30-second rating, increase the risk of loss of steps of the HMU stepper motor.

Therefore, this event has led to the consideration of the following unsafe condition at aircraft level: In-flight loss of full automatic control of the engine induced by the loss of steps of the stepper motor during acceleration up to OEI 30-second rating, further to an actual OEI situation on the other engine (such as a power loss event).

You may obtain further information by examining the MCAI in the AD docket.

FAA's Determination and Requirements of This Proposed AD

This product has been approved by the aviation authority of France and is approved for operation in the United States. Pursuant to our bilateral agreement with France, they have notified us of the unsafe condition described in the MCAI and service information referenced above. We are proposing this AD because we evaluated all information provided by EASA and determined the unsafe condition exists and is likely to exist or develop on other products of the same type design. This proposed AD would require upgrading the DECU software to version 11.01, to implement modification of TU 109. Modification TU 109 increases the tolerance to loss of steps of the control system. It reduces significantly the risk of loss of full automatic control due to loss of steps of the stepper motor, notably during engine accelerations up to OEI 30-second rating.

Differences Between This AD and the MCAI or Service Information

The MCAI requires performing the DECU software upgrade no later than August 31, 2010. This proposed AD would require performing the DECU software upgrade within 350 operating hours after the effective date of the proposed AD.

Costs of Compliance

Based on the service information, we estimate that this proposed AD would affect about 136 products of U.S. registry. We also estimate that it would take about 3 work-hours per product to comply with this proposed AD. The average labor rate is $80 per work-hour. Required parts would cost about $3,500 per product. Based on these figures, we estimate the cost of the proposed AD on U.S. operators to be $508,640. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Turbomeca: Docket No. FAA-2009-0568; Directorate Identifier 2009-NE-20-AD.

Comments Due Date

(a) We must receive comments by November 27, 2009.

Affected Airworthiness Directives (ADs)

(b) None.

Applicability

(c) This AD applies to Turbomeca Arriel 2S1 turboshaft engines that have not incorporated Modification TU 109. These engines are installed on, but not limited to, Sikorsky S-76C+ twin-engine helicopters.

Reason

(d) This AD results from mandatory continuing airworthiness information (MCAI) issued by an aviation authority of another country to identify and correct an unsafe condition on an aviation product. We are issuing this AD to prevent loss of full automatic control of the engine during acceleration up to the One Engine Inoperative 30-second rating. This condition could result in reduced controllability of the helicopter.

Actions and Compliance

(e) Unless already done, do the following actions:

(1) Within 350 operating hours after the effective date of this AD, perform an upgrade of the digital electronic control unit (DECU) software to version 11.01, to implement modification TU 109.

(2) Guidance on implementing TU 109 can be found in Turbomeca Mandatory Service Bulletin No. 292 73 2109, Version E, dated September 17, 2008.

Prohibition of Mixed DECU Software Versions on the Same Helicopter

(3) Do not operate an Arriel 2S1-powered twin-engine helicopter with one engine upgraded to modification TU 109 if the other engine is not upgraded to modification TU 109.

FAA AD Differences

(f) This AD differs from the Mandatory Continuing Airworthiness Information (MCAI) and/or service information as follows:

(1) The MCAI requires performing the DECU software upgrade no later than August 31, 2010.

(2) This proposed AD would require performing the DECU software upgrade within 350 operating hours after the effective date of the proposed AD.

Alternative Methods of Compliance (AMOCs)

(g) The Manager, Engine Certification Office, FAA, has the authority to approve AMOCs for this AD, if requested using the procedures found in 14 CFR 39.19.

Related Information

(h) Refer to MCAI EASA Airworthiness Directive 2009-0010, dated January 20, 2009, and Turbomeca Mandatory Service Bulletin No. 292 73 2109, Version E, dated September 17, 2008, for related information. Contact Turbomeca, 40220 Tarnos, France; telephone (33) 05 59 74 40 00, fax (33) 05 59 74 45 15 for the service information identified in this AD.

(i) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Issued in Burlington, Massachusetts, on October 1, 2009.
Peter A. White,
Assistant Manager, Engine and Propeller Directorate, Aircraft Certification Service.

[FR Doc. E9-25943 Filed 10-27-09; 8:45 am]

BILLING CODE 4910-13-P